ENVIRONMENTAL PROTECTION AGENCY

[FRL-9908-40-OCFO]

Environmental Financial Advisory Board (EFAB) Charter Renewal

AGENCY: Environmental Protection Agency (EPA).

ACTION: Notice of Charter Renewal.

The Charter for the Environmental Protection Agency's Environmental Financial Advisory Board (EFAB) will be renewed for an additional two-year period, as a necessary committee which is in the public interest, in accordance with the provisions of the Federal Advisory Committee Act (FACA), 5 U.S.C. App. 2. The purpose of EFAB is to provide advice and recommendations to the Administrator of EPA on issues associated with environmental financing. It is determined that EFAB is in the public interest in connection with the performance of duties imposed on the Agency by law.

Inquiries may be directed to Vanessa Bowie, Staff Director, Center for Environmental Finance, U.S. EPA, William Jefferson Clinton Federal Building, 1200 Pennsylvania Ave. NW., Washington, DC 20460 (Mailcode 2731A), Telephone (202) 564-5186, or bowie.vanessa@epa.gov.

Dated: March 12, 2014.
David Bloom,
Acting Deputy Chief Financial Officer, Office of the Chief Financial Officer.

[FR Doc. 2014-06374 Filed 3-21-14; 8:45 am]

BILLING CODE 6560-50-P